SECURITIES AND EXCHANGE COMMISSION

[Release No. 34-101380; File No. SR-NASDAQ-2024-037]

Self-Regulatory Organizations; The Nasdaq Stock Market LLC; Notice of Withdrawal of a Proposed Rule Change To Amend Rule 5820 To Codify the Standards of Review That Govern Appeals Before the Nasdaq Listing and Hearing Review Council and Calls for Review by the Nasdaq Listing and Hearing Review Council

October 17, 2024.

On July 3, 2024, The Nasdaq Stock Market LLC (“Nasdaq” or “Exchange”) filed with the Securities and Exchange Commission (“Commission”), pursuant to Section 19(b)(1) of the Securities Exchange Act of 1934 (“Act”) ¹ and Rule 19b-4 thereunder,² a proposed rule change to amend Rule 5820 to codify the standards of review that govern appeals before the Nasdaq Listing and Hearing Review Council and calls for review by the Nasdaq Listing and Hearing Review Council. The proposed rule change was published for comment in the Federal Register on July 23, 2024.³ On August 30, 2024, pursuant to Section 19(b)(2) of the Act,⁴ the Commission designated a longer period within which to approve the proposed rule change, disapprove the proposed rule change, or institute proceedings to determine whether to approve or disapprove the proposed rule change.⁵

¹ 15 U.S.C. 78s(b)(1).

² 17 CFR 240.19b-4.

³ See Securities Exchange Act Release No. 100544 (July 17, 2024), 89 FR 59782 (“Notice”). Comments on the proposed rule change are available at: https://www.sec.gov/comments/sr-nasdaq-2024-037/srnasdaq2024037.htm.

⁴ 15 U.S.C. 78s(b)(2).

⁵ See Securities Exchange Act Release No. 100879 (August 30, 2024), 89 FR 72501 (September 5, 2024). The Commission designated October 21, 2024, as the date by which the Commission shall approve or disapprove, or institute proceedings to determine whether to disapprove, the proposed rule change.

On October 15, 2024, the Exchange withdrew the proposed rule change (SR-NASDAQ-2024-037).

⁶ 17 CFR 200.30-3(a)(12).

For the Commission, by the Division of Trading and Markets, pursuant to delegated authority.⁶
Sherry R. Haywood,
Assistant Secretary.

[FR Doc. 2024-24470 Filed 10-21-24; 8:45 am]

BILLING CODE 8011-01-P